GENERAL SERVICES ADMINISTRATION

[OMB Control No. 3090-0285]

Agency Information Collection Activities; Proposed Collection; Comment Request; USASpending/IT Dashboard Feedback Mechanisms Information Collection; OMB Control No. 3090-0285

AGENCY: Interagency Policy and Management Division, Office of Governmentwide Policy, U.S. General Services Administration (GSA).

ACTION: Notice of request for comments regarding a new OMB clearance.

SUMMARY: In compliance with the Paperwork Reduction Act (PRA) (44 U.S.C. 3501 et seq.), this document announces that GSA is planning to submit a request to replace an emergency Information Collection Request (ICR) to the Office of Management and Budget (OMB). Before submitting this ICR to OMB for review and approval, GSA is soliciting comments on specific aspects of the proposed information collection as described below.

DATES: Comments must be submitted on or before November 2, 2009.

ADDRESSES: Submit your comments regarding this collection of information to Lalit Bajaj at the information provided below. Please cite OMB Control No. 3090-0285, USASpending/IT Dashboard Feedback Mechanisms Information Collection, in all correspondence.

FOR FURTHER INFORMATION CONTACT: Lalit Bajaj, Interagency Policy and Management Division, Office of Governmentwide Policy, General Services Administration, 1800 F Street, NW., Room 2227, Washington, DC 20405-0001; telephone number: 202-208-7887; fax number: 202-501-3136; e-mail address: lalit.bajaj@gsa.gov.

SUPPLEMENTARY INFORMATION:

What Information Is GSA Particularly Interested in?

Pursuant to section 3506(c)(2)(A) of the PRA, GSA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, GSA is requesting comments from very small businesses (those that employ less than 25) on examples of specific additional efforts that GSA could make to reduce the paperwork burden for very small businesses affected by this collection.

What Should I Consider When I Prepare My Comments for GSA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by GSA, be sure to identify the ICR title on the first page of your response. You may also provide the Federal Register citation.

What Information Collection Activity or ICR Does This Apply to?

Title: USASpending/IT Dashboard Feedback Mechanisms Information Collection.

OMB Control Number: 3090-0285.

The USAspending.gov Web site, which is a re-launch of the www.fedspending.org Web site, provides information, as collected from federal agencies, to the public in accordance with the Federal Funding Accountability and Transparency Act of 2006 (Transparency Act).

USAspending.gov is a public-friendly Web site that provides details regarding each Federal award, such as: The name and location of the entity receiving the award, the amount of the award, funding agency for the award, etc. Additionally, the IT dashboard Web site, which is a part of USAspending.gov, provides details of Federal Information Technology (IT) investments and is based on data received from agency reports to the Office of Management and Budget (OMB). The ability to look at contracts, grants, loans, Information Technology investments, and other types of spending across many agencies, in greater detail, is a key ingredient to building public trust in government and credibility in the professionals who use these agreements. USAspending.gov visitors will be provided opportunities to provide feedback in the spirit of the President's open government and transparency initiative. Examples of feedback mechanisms are:

(1) A “Contact Us” entry page with an optional contact e-mail address for those visitors wishing to identify themselves on the USAspending.gov web-page,

(2) A “Contact Us” entry page with a contact e-mail address on the IT dashboard web-page; and

(3) A Collaborative Work Environment using wiki web pages, e-mail discussion forum, message archive, shared file workspace, full text search capability, etc.

Additional feedback mechanisms may be placed in the future but additional details have not yet been defined regarding them. This information collection request for a generic clearance is a replacement of the emergency ICR approved by OMB. It is being submitted in order to fulfill the public feedback aspects of this important initiative.

Burden Statement: The annual public reporting and recordkeeping burden for this collection of information is estimated to average up to 500 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The estimated annual burden request is summarized here:

Affected entities: Anyone that chooses to visit USASpending.gov, including the IT Dashboard Web site.

Estimated total number of potential responses: 5,000.

Frequency of response: Occasionally.

Estimated total annual burden hours: 500 hours.

Estimated total annual costs: 0.

What is the Next Step in the Process for This ICR?

GSA will consider the comments received and amend the ICR as appropriate. The final ICR package will then be submitted to OMB for review and approval pursuant to 5 CFR 1320.12. At that time, GSA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: August 26, 2009.
Casey Coleman,
Chief Information Officer, General Services Administration.

[FR Doc. E9-21175 Filed 9-1-09; 8:45 am]

BILLING CODE 6820-WY-P